DEPARTMENT OF HEALTH AND HUMAN SERVICES

Administration for Children and Families

Proposed Information Collection Activity; ACF-800: Child Care and Development Fund (CCDF) Annual Aggregate Report (OMB #0970-0150)

AGENCY: Office of Child Care, Administration for Children and Families, HHS.

ACTION: Request for public comment.

SUMMARY: The Office of Child Care (OCC), Administration for Children and Families (ACF) is requesting a 3-year extension of the form ACF-800: CCDF Annual Aggregate Report (OMB #0970-0150, expiration 2/28/2022). There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION: Description: The ACF-800 provides annual aggregate data on the children and families receiving direct services under CCDF. The ACF-800 provides administrative information on the type and methods of child care delivery, and is used to analyze and evaluate the CCDF program to the extent which state and territory lead agencies are assisting families in addressing child care needs.

Respondents: State and territory lead agencies.

Annual Burden Estimates
Instrument | Total number of respondents | Annual number of responses per respondent | Average burden hours per response | Annual burden hours
ACF-800: CCDF Annual Aggregate Report | 56 | 1 | 40 | 2,240

Estimated Total Annual Burden Hours: 2,240.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Child Care and Development Block Grant Act (42 U.S.C. 9857 et seq.); regulations at 45 CFR 98.70 and 98.71.

Mary B. Jones,
ACF/OPRE Certifying Officer.

[FR Doc. 2021-24398 Filed 11-8-21; 8:45 am]

BILLING CODE 4184-81-P